DEPARTMENT OF DEFENSE

Office of the Secretary

Strategic Environmental Research and Development Program, Scientific Advisory Board

AGENCY: Department of Defense.

ACTION: Notice.

SUMMARY: This Notice is published in accordance with Section 10(a)(2) of the Federal Advisory Committee Act (P.L. 92-463). The topic of the meeting on October 17-19, 2006 are to review new start and continuing research and development projects requesting Strategic Environmental Research and Development Program funds in excess of $1M. This meeting is open to the public . Any interested person may attend, appear before, or file statements with the Scientific Advisory Board at the time and in the manner permitted by the Board.

DATES: October 17, 2006 from 8:30 a.m. to 5 p.m., October 18 from 9 a.m. to 4 p.m. and October 19, 2006 from 8:30 a.m. to 3 p.m.

ADDRESSES: SERDP Program Office Conference Center, 901 North Stuart Street, Suite 804, Arlington, VA 22203.

FOR FURTHER INFORMATION CONTACT: Ms. Melissa Jensen, SERDP Program Office, 901 North Stuart Street, Suite 303, Arlington, VA or by telephone at (703) 696-2126.

Dated: September 25, 2006.
C.R. Choate,
Alternate OSD Federal Register Liaison Officer, Department of Defense.

[FR Doc. 06-8359 Filed 9-28-06; 8:45 am]

BILLING CODE 5001-06-M